DEPARTMENT OF ENERGY

Federal Energy Regulatory Commission

[Docket No. IC01-550-001, FERC-550]

Information Collection Submitted for Review and Request for Comments

February 4, 2002.

AGENCY: Federal Energy Regulatory Commission.

ACTION: Notice of submission for review by the Office of Management and Budget (OMB) and request for comments.

SUMMARY: The Federal Energy Regulatory Commission (Commission) has submitted the information collection listed in this notice to the Office of Management and Budget (OMB) for review under provisions of Section 3507 of the Paperwork Reduction Act of 1995 (Pub. L. 104-13). Any interested person may file comments on the collection of information directly with OMB and should address a copy of those comments to the Commission as explained below. The Commission did not receive any comments in response to an earlier notice issued September 24, 2001, 66 FR 49655-56, September 28, 2001.

DATES: Comments regarding this collection of information are best assured of having their full effect if received within 30 days of this notification.

ADDRESSES: Address comments to Office of Management and Budget, Office of Information and Regulatory Affairs, Attention: Federal Energy Regulatory Commission, Desk Officer, Room 10202 NEOB, 725 17th Street, N.W. Washington, D.C. 20503. The Desk Officer can also be reached at (202)395-7318 or by fax at (202)395-7285. A copy of the comments should also be sent to Federal Energy Regulatory Commission, Office of the Chief Information Officer, Attention: Mr. Michael Miller, 888 First Street N.E., Washington, D.C. 20426.

FOR FURTHER INFORMATION CONTACT: Michael Miller may be reached by telephone at (202)208-1415, by fax at (202)208-2425, and by e-mail at michael.miller@ferc.fed.gov.

SUPPLEMENTARY INFORMATION:

Description

The energy information collection submitted to OMB for review contains:

1. Collection of Information: FERC-550 “Oil Pipeline Rates: Tariff Filings”

2. Sponsor: Federal Energy Regulatory Commission

3. Control No.: OMB No. 1902-0089. The Commission is now requesting that OMB approve a three-year extension of the current expiration date, with no changes to the existing collection. There is an adjustment to the reporting burden due to an increase in the number of entities that are now subject to the reporting requirements. This is a mandatory information collection requirement.

4. Necessity of Collection of Information: The filing requirement provides the basis for analysis of all rates, fares, or charges whatsoever demanded, charged or collected by any common carrier or carriers in connection with the transportation of crude oil and petroleum products and are used by the Commission to establish a basis for determining the just and reasonable rates that should be charged by the regulated pipeline company. Based on this analysis, a recommendation is made to the Commission to take action whether to suspend, accept or reject the proposed rate. The data required to be filed for pipeline rates and tariff filings is specified by 18 Code of Federal regulations (CFR) Chapter I Parts 340-348.

Jurisdiction over oil pipelines, as it relates to the establishment of rates or charges for the transportation of oil by pipeline or the establishment or valuations for pipelines, was transferred from the Interstate Commerce Commission to the Commission, pursuant to Section 306 and 402 of the Department of Energy Organization Act (DOE Act), 42 U.S.C. 7155 and 7172, and Executive Order No. 12009.

5. Respondent Description: The respondent universe currently comprises on average, 200 respondents subject to the Commission's jurisdiction.

6. Estimated Burden: 6,600 total burden hours, 200 respondents, 3. responses annually, 11 hours per response (average).

7. Estimated Cost Burden to Respondents: 6,600 hours 2,080 hours per year x $117,041 per year = $ 371,380, average cost per respondent = $1,857.

Statutory Authority: Part I, Sections 1, 6, and 15, of the Interstate Commerce Act (ICA), (Pub.L. No. 337, 34 Stat. 384).

Magalie R. Salas,
Secretary

[FR Doc. 02-3209 Filed 2-8-02; 8:45 am]

BILLING CODE 6717-01-P